ENVIRONMENTAL PROTECTION AGENCY

[EPA-HQ-OECA-2012-0680; FRL-9528-2]

Agency Information Collection Activities; Submission to OMB for Review and Approval; Comment Request; Emission Guidelines and Compliance Times for Existing Municipal Solid Waste Landfills (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before March 21, 2013.

ADDRESSES: Submit your comments, referencing docket ID number EPA-HQ-OECA-2012-0680, to: (1) EPA online, using www.regulations.gov (our preferred method), or by email to: docket.oeca@epa.gov, or by mail to: EPA Docket Center (EPA/DC), Environmental Protection Agency, Enforcement and Compliance Docket and Information Center, mail code 28221T, 1200 Pennsylvania Avenue NW., Washington, DC 20460; and (2) OMB at: Office of Information and Regulatory Affairs, Office of Management and Budget (OMB), Attention: Desk Officer for EPA, 725 17th Street NW., Washington, DC 20503.

FOR FURTHER INFORMATION CONTACT: Learia Williams, Monitoring, Assistance, and Media Programs Division, Office of Compliance, Mail Code 2227A, Environmental Protection Agency, 1200 Pennsylvania Avenue NW., Washington, DC 20460; telephone number: (202) 564-4113; fax number: (202) 564-0050; email address: williams.learia@epa.gov.

SUPPLEMENTARY INFORMATION: EPA has submitted the following ICR to OMB for review and approval according to the procedures prescribed in 5 CFR 1320.12. On October 17, 2012 (77 FR 63813), EPA sought comments on this ICR pursuant to 5 CFR 1320.8(d). EPA received no comments. Any additional comments on this ICR should be submitted to both EPA and OMB within 30 days of this notice.

EPA has established a public docket for this ICR under docket ID number EPA-HQ-OECA-2012-0680, which is available for either public viewing online at http://www.regulations.gov, or in person viewing at the Enforcement and Compliance Docket in the EPA Docket Center (EPA/DC), EPA West, Room 3334, 1301 Constitution Avenue NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov to either submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidentiality of Business Information (CBI), or other information whose public disclosure is restricted by statute. For further information about the electronic docket, go to www.regulations.gov.

Title: Emission Guidelines and Compliance Times for Existing Municipal Solid Waste Landfills (Renewal).

ICR Numbers: EPA ICR Number 1893.06, OMB Control Number 2060-0430.

ICR Status: This ICR is scheduled to expire on March 31, 2013. Under OMB regulations, the Agency may continue to either conduct or sponsor the collection of information while this submission is pending at OMB.

Abstract: The affected entities are subject to the General Provisions of the Emission Guidelines at 40 CFR part 60, subpart A, and any changes, or additions to the Provisions specified at 40 CFR part 60, subpart Cc and part 62, Subpart GGG.

Owners or operators of the affected facilities must submit periodic reports and results. Owners or operators are also required to maintain records of control system monitoring, accumulated refuse, surface methane monitoring, and collection and control system exceedances.

Burden Statement: The annual public reporting and recordkeeping burden for this collection of information is estimated to average 15 hours per response. “Burden” means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action are the owners or operators of municipal solid waste landfills.

Estimated Number of Respondents: 511.

Frequency of Response: Monthly, Quarterly, and Annually.

Estimated Total Annual Hour Burden: 42,277.

Estimated Total Annual Cost: $4,717,854, which includes $4,054,254 in labor costs, no capital/startup costs, and $663,600 in operation and maintenance (O&M) costs.

Changes in the Estimates: There is a net decrease in the total burden associated with both privately- and publicly-owned landfills. This decrease is due to an adjustment to the estimated average number of respondents. To account for landfill closures that have occurred since the previous ICR was approved, this ICR applies a three-percent per year landfill closure rate to the previous ICR's estimated number of respondents. This adjustment decreased the total burden hours associated with privately- and publicly-owned landfills. There is an increase in burden cost from the most recently approved ICR. This is due to the fact that this ICR uses updated labor rates from the Bureau of Labor Statistics to calculate respondent burden costs.

There is an increase in the respondent burden and cost associated with State and local agencies. This increase is due to an adjustment in the labor burden calculations. The previous ICR assumed that, for each burden item, person-hours per occurrence included technical, managerial, and clerical labor hours. To be consistent with the estimation methodology used in other ICRs, this ICR assumes that person-hours per occurrence includes technical labor only, and that managerial and clerical hours account for an additional 5 and 10 percent, respectively, of technical labor hours. This adjustment increased the State and local agency burden hours and costs.

There is a decrease in the Federal Agency burden due to adjustments in the labor burden calculations. The previous ICR included a burden item for Agency review of surface methane monitoring reports. Respondents, however, are not required to submit reports; therefore, no Agency burden will be incurred. For this reason we have adjusted the calculations to exclude any Agency burden associated with surface methane monitoring. We have also adjusted the total labor burden attributed to EPA technical, managerial, and clerical labor. As described in the previous paragraph, we adjusted the calculations for consistency with other ICRs, and so that managerial and clerical hours account for an additional 5 and 10 percent, respectively, of technical labor hours. The net result of these adjustments was a decrease in burden.

There is also a decrease in O&M costs from the most recently approved ICR. This decrease is not due to any program changes, and is attributed to the decrease in the number of respondents due to landfill closures that have occurred since the previous ICR was approved. As a result, there is a proportional decrease in the O&M cost.

John Moses,
Director, Collection Strategies Division.

[FR Doc. 2013-03742 Filed 2-15-13; 8:45 am]

BILLING CODE 6560-50-P